DEPARTMENT OF HEALTH AND HUMAN SERVICES

National Institutes of Health

National Institute on Aging; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute on Aging Special Emphasis Panel, Clinical Trial R01'S.

Date: February 20, 2003.

Time: 2 p.m. to 4 p.m.

Agenda: To review and evaluate grant applications.

Place: Scientific Review Office, National Institute on Aging, 7201 Wisconsin Avenue, 2C212 Gateway Building, Bethesda, MD 20814 (Telephone Conference Call).

Contact Person: Ramesh Vemuri, PhD, National Institute on Aging, The Bethesda Gateway Building, 7201 Wisconsin Avenue, Suite 2C212, Bethesda, MD 20892, (301) 496-9666.

Name of Committee: National Institute on Aging Special Emphasis Panel, Determinants of Retirement Behavior.

Date: February 20-21, 2003.

Time: 7 a.m. to 6 p.m.

Agenda: To review and evaluate grant applications.

Place: Sheraton Gateway Hotel, 6101 West Century Blvd., Los Angeles, CA 90045.

Contact Person: Alfonso R. Latoni, PhD, Health Scientist Administrator, Scientific Review Office, National Institute on Aging, National Institutes of Health, 7201 Wisconsin Avenue, Room 2C212, Bethesda, MD 20892, 301/496-9666, latonia@mail.nih.gov.

Name of Committee: National Institute on Aging Special Emphasis Panel, Alzheimer's Disease Models.

Date: February 24-25, 2003.

Time: 6 a.m. to 8 p.m.

Agenda: To review and evaluate grant applications.

Place: Sheraton University City, 36th Chestnut Streets, Philadelphia, PA 19104.

Contact Person: Louise L. Hsu, PhD, The Bethesda Gateway Building, 7201 Wisconsin Avenue/Suite 2C212, Bethesda, MD 20892, (301) 496-7705.

Name of Committee: National Institute on Aging Special Emphasis Panel, Aging Immune System.

Date: February 25, 2003.

Time: 11 a.m. to 2 p.m.

Agenda: To review and evaluate grant applications.

Place: National Institute on Aging, Gateway Building, 7201 Wisconsin Avenue, Room 2C212, Bethesda, MD 20892, (Telephone Conference Call).

Contact Person: James P. Harwood, PhD, Deputy Chief, Scientific Review Office, Gateway Building 2C212, 7201 Wisconsin Avenue, Bethesda, MD 20814, (301) 496-9666, harwoodj@mail.nih.gov.

Name of Committee: National Institute on Aging Special Emphasis Panel, The Effects of Lipid Oxidation in Alzheimer's Disease.

Date: February 25-26, 2003.

Time: 6 p.m. to 5 p.m.

Agenda: To review and evaluate grant applications.

Place: The Renaissance Madison Hotel, 515 Madison Street, Seattle, WA 98104.

Contact Person: Arthur D. Schaerdel, DVM, The Bethesda Gateway Building, 7201 Wisconsin Avenue/Suite 2C212, Bethesda, MD 20892, (301) 496-9666.

Name of Committee: National Institute on Aging Initial Review Group, Behavior and Social Science of Aging Review Committee, NIA-S.

Date: March 13-14, 2003.

Time: 4 p.m. to 5 p.m.

Agenda: To review and evaluate grant applications.

Place: Holiday Inn Georgetown, 2101 Wisconsin Avenue, NW., Washington, DC 20007.

Contact Person: Alfonso R. LaToni, PhD, Health Scientist Administrator, Scientific Review Office, National Institute on Aging, Gateway Building 2C212, 7201 Wisconsin Avenue, Bethesda, MD 20892, 301/496-9666, latonia@mail.nih.gov.

Dated: January 27, 2003.
(Catalogue of Federal Domestic Assistance Program Nos. 93.866, Aging Research, National Institutes of Health, HHS)
LaVerne Y. Stringfield,
Director, Office of Federal Advisory Committee Policy.

[FR Doc. 03-2623 Filed 2-4-03; 8:45 am]

BILLING CODE 4140-01-M